ENVIRONMENTAL PROTECTION AGENCY

40 CFR Part 52

[EPA-R05-OAR-2020-0385; FRL-12224-01-R5]

Determination of Attainment by the Attainment Date; Michigan; St. Clair 2010 Sulfur Dioxide Nonattainment Area

AGENCY: Environmental Protection Agency (EPA).

ACTION: Proposed rule.

SUMMARY: The Environmental Protection Agency (EPA) is proposing to determine that the St. Clair, MI sulfur dioxide (SO2) nonattainment area attained the 2010 1-hour primary SO2 national ambient air quality standard (NAAQS) by the date of September 12, 2021. This determination is based on annual SO2 emissions data, modeled data, and certified ambient air quality data from EPA's December 7, 2021, Clean Data Determination for St. Clair, as well as publicly available additional supporting 2020 data. This action, if finalized, will address EPA's obligation under the Clean Air Act (CAA) to determine whether the St. Clair SO2 nonattainment area (referred to hereafter as the St. Clair area, or simply the area) attained the 2010 SO2 NAAQS by the September 12, 2021, attainment date.

DATES: Written comments for this proposed rule must be received on or before October 28, 2024.

ADDRESSES: Submit your comments, identified by Docket ID No. EPA-R05-OAR-2020-0385 at https://www.regulations.gov or via email to arra.Sarah@epa.gov. For comments submitted at Regulations.gov, follow the online instructions for submitting comments. Once submitted, comments cannot be edited or removed from the docket. EPA may publish any comment received to its public docket. Do not submit to EPA's docket at https://www.regulations.gov any information you consider to be Confidential Business Information (CBI), Proprietary Business Information (PBI), or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, please contact the person identified in the FOR FURTHER INFORMATION CONTACT section. For the full EPA public comment policy, information about CBI, PBI, or multimedia submissions, and general guidance on making effective comments, please visit https://www.epa.gov/dockets/commenting-epa-dockets.

FOR FURTHER INFORMATION CONTACT: Alexis Bender, Air and Radiation Division (AR-18J), Environmental Protection Agency, Region 5, 77 West Jackson Boulevard, Chicago, Illinois 60604, (312) 886-9497, bender.alexis@epa.gov. The EPA Region 5 office is open from 8:30 a.m. to 4:30 p.m., Monday through Friday, excluding Federal holidays and facility closures due to COVID-19.

SUPPLEMENTARY INFORMATION: Throughout this document whenever “we,” “us,” or “our” is used, we mean EPA.

I. Background

A. The 2010 1-Hour Primary SO2 NAAQS

Under section 109 of the CAA, EPA has established primary and secondary NAAQS for certain pervasive air pollutants (referred to as “criteria pollutants”) and conducts periodic reviews of the NAAQS to determine whether they should be revised or whether new NAAQS should be established.

On June 22, 2010 (75 FR 35520), EPA published in the Federal Register a strengthened, primary 1-hour SO2 NAAQS, establishing a new standard at a level of 75 ppb, based on the 3-year average of the annual 99th percentile of daily maximum 1-hour average concentrations of SO2. This revised SO2 NAAQS provided increased protection of public health and provided for revocation of the 1971 primary annual and 24-hour SO2 standards for most areas of the country following area designations under the new NAAQS.

B. Designations and Attainment Dates for the 2010 SO2 NAAQS

Following promulgation of a new or revised NAAQS, EPA is required to designate all areas of the country as either “attainment,” “nonattainment,” or “unclassifiable,” pursuant to CAA section 107(d)(1). On July 12, 2016 (81 FR 45039), EPA finalized its second round of initial designations under the 2010 SO2 NAAQS. During the second round of designations, the St. Clair area of Michigan was designated as nonattainment for the 2010 SO2 NAAQS (40 CFR 81.323) based on modeling of actual emissions for the designated area.

CAA section 191(a) directs states containing an area designated nonattainment for the 2010 SO2 NAAQS to develop and submit a nonattainment area State Implementation Plan (SIP) to EPA within 18 months of the effective date of an area's designation as nonattainment. The Michigan Department of Environment, Great Lakes, and Energy (EGLE) was required to submit a SIP by March 12, 2018, to bring the St. Clair area into attainment by the attainment date of September 12, 2021.

EGLE submitted a request for a Clean Data Determination (CDD) on July 24, 2020. When a nonattainment area is attaining the 2010 SO2 NAAQS based on the most recent available data, EPA may issue a CDD suspending planning requirements. EPA issued a CDD for the St. Clair area based on monitoring and modeling data for the 2017-2019 period via a final rule published on December 7, 2021 (86 FR 69173).

C. Requirement To Determine Attainment by the Attainment Date

Section 179(c)(1) of the CAA requires EPA to determine whether a nonattainment area attained a standard by the applicable attainment date based on the area's air quality as of the attainment date. EPA is to issue this determination within six months of the attainment date. Thus, EPA had a mandatory duty under CAA section 179(c) to determine by March 12, 2022 whether the area attained by September 12, 2021. This action proposes to determine the St. Clair area did attain the 2010 SO2 NAAQS by the attainment date of September 12, 2021.

A determination of whether an area's air quality meets applicable standards is generally based upon the most recent three years of complete, quality-assured data gathered at established State and local air monitoring stations in a nonattainment area and entered into EPA's Air Quality System (AQS) database. Data from ambient air monitors operated by State and local agencies in compliance with EPA monitoring requirements must be submitted to AQS. Monitoring agencies annually certify that these data are accurate to the best of their knowledge. All data are reviewed to determine the area's air quality status in accordance with 40 CFR part 50, appendix T (for SO2). In general, for SO2, EPA does not rely exclusively on monitoring data to determine whether the NAAQS is met unless it has been demonstrated that the monitors were appropriately sited to record expected maximum ambient concentrations of SO2 in an area. As such, monitoring data can be supplemented with other relevant information, including dispersion modeling and emissions inventories, for determining attainment.

II. Proposed Determination of Attainment by the Attainment Date

A. Area Characterization

The St. Clair area is located within the lower southeastern corner of Michigan northeast of Detroit and shares a border with Ontario, Canada along the St. Clair River. The area is defined by the St. Clair River for the eastern boundary, an extension from the St. Clair River straight west to the intersection of State Highway M-29 and St. Clair River Drive, continuing west on State Highway M-29 to Church Road to Arnold Road to County Line Road for the southern boundary, County Line Road and the Macomb/St. Clair County boundary to Stoddard Road to Wales Ridge Road for the western boundary, and Alpine Road to Fitz Road to Smith Creek Road to Range Road to Huron Avenue, extending straight east from the intersection of Huron Road and River Road to the St. Clair River for the northern boundary.

The St. Clair area contains two SO2-emitting facilities that are both coal-fired power plants. Additionally, the area contains two SO2 monitors which reside near the facilities. The two monitors have been operating since 2016 and have had no recorded violations of the NAAQS. As these monitors were sited to operate under guidance per the “SO2 NAAQS Designations Source-Oriented Monitoring Technical Assistance Document” (SO2 Monitoring TAD), EPA believes that these monitors' locations adequately represent the locations of potential maximum SO2 impacts from the two power plants.

B. St. Clair Nonattainment Area's Attainment of the 2010 SO2 NAAQS

We propose to determine that the St. Clair nonattainment area attained the 2010 SO2 NAAQS by the attainment date of September 12, 2021. EPA previously determined that the St. Clair SO2 nonattainment area was attaining the 2010 SO2 NAAQS in its December 7, 2021 (86 FR 69173), CDD. EPA issued the CDD based on SO2 monitoring and modeling data from EGLE. For this determination of attainment by the attainment date, EPA is in part relying on the approved CDD of the St. Clair area as well as additional supporting information. The data cited by the CDD demonstrated attainment for the 2017-2019 time period, with averaged SO2 monitoring values of 54 ppb for the Belle River-Mills Monitor and 45 ppb for the St. Clair-Remer Monitor. The CDD modeled 2017-2019 emission sources for an overall maximum 99th percentile impact output of 64.4 ppb, which falls below the 2010 SO2 NAAQS of 75 ppb.

As noted, determinations of whether areas attained the NAAQS by the attainment date are generally based on the area's design value as of the attainment date, i.e., the three most recent calendar years of data, in this case 2018-2020. Therefore, in this proposal EPA is closely examining monitoring and emissions data from 2020 to supplement the analysis already concluded in the CDD, which looked at air quality information from 2017-2019. In 2020, primary source SO2 emissions and monitored SO2 ambient air concentrations in the area continued to decline. The SO2 emissions from the Belle River and St. Clair power plants decreased by an additional total of 8,996 tons per year from 2019 to 2020 (Table 1). As seen in Table 2, the 2018-2020 design values at the two air quality monitors in the area continued to show SO2 levels below the 75 ppb level of the NAAQS and a decline in SO2 concentration from 2017-2019. Therefore, the additional information EPA has examined for 2020, coupled with the existing CDD based on 2017-2019 monitoring and emissions data, leads the agency to conclude that the St. Clair nonattainment area attained by its attainment date.

Table 1—St. Clair, MI Nonattainment Area Annual Emissions
SO2 emissions: Year | Power plant | Total tons/year
2017 | Belle River/St. Clair | 36,918
2018 | Belle River/St. Clair | 41,381
2019 | Belle River/St. Clair | 30,751
2020 | Belle River/St. Clair | 21,755

Table 2—St. Clair, MI Nonattainment Area 2010 SO2 NAAQS Standard 3-Year Design Values
Power plant monitors | 3-Year design values (ppb)
Site ID | 2017-2019 | 2018-2020
26-147-0913 | Belle River-Mills | 45 | 40
26-147-0914 | St. Clair-Remer | 54 | 45

III. Proposed Action and Request for Public Comment

Based on EPA's review of all available evidence described in this notice, EPA is proposing to determine that the St. Clair nonattainment area attained the 2010 SO2 NAAQS by the relevant attainment date of September 12, 2021.

The determination of attainment by the attainment date does not constitute a redesignation of the St. Clair, MI nonattainment area to attainment of the 2010 SO2 NAAQS under section 107(d)(3) of the CAA. If this action is finalized, the St. Clair area will remain designated nonattainment for the 2010 SO2 NAAQS until such time as EPA approves a redesignation request and accompanying 10-year maintenance plan, and EPA determines that the area meets the requirements of CAA section 107(d)(3) and provides for maintenance as required by CAA section 175A.

If finalized, this action will address EPA's obligation under CAA section 179(c) to determine if the St. Clair Area attained the 2010 SO2 NAAQS by the attainment date of September 12, 2021.

EPA is soliciting public comments on this action. These comments will be considered before taking final action.

IV. Statutory and Executive Order Reviews

A. Executive Order 12866: Regulatory Planning and Review, and Executive Order 14094: Modernizing Regulatory Review

This action is not a “significant regulatory action” under the terms of Executive Order 12866 (58 FR 51735, October 4, 1993) and is therefore not subject to review under Executive Order 14094 (88 FR 21879, April 11, 2023).

B. Paperwork Reduction Act (PRA)

This rule does not impose an information collection burden under the provisions of the PRA of 1995 (44 U.S.C. 3501 et seq.). This action does not contain any information collection activities and serves only to make a final determination that the St. Clair, Michigan nonattainment area attained the 2010 SO2 NAAQS by the September 12, 2021, attainment date.

C. Regulatory Flexibility Act (RFA)

I certify that this action will not have a significant economic impact on a substantial number of small entities under the RFA (5 U.S.C. 601 et seq.). The determination of attainment by attainment date action of attaining the 2010 SO2 NAAQS will not impose any requirements on small entities or will not create any new requirements beyond what is mandated by the CAA.

D. Unfunded Mandates Reform Act (UMRA)

This action does not contain any unfunded mandate as described in UMRA, 2 U.S.C. 1531-1538, and does not significantly or uniquely affect small governments. The action imposes no enforceable duty on any State, local or Tribal governments or the private sector.

E. Executive Order 13132: Federalism

This action does not have federalism implications. It will not have substantial direct effects on the States, on the relationship between the national government and the States, or on the distribution of power and responsibilities among the various levels of government. The division of responsibility between the Federal Government and the States for purposes of implementing the NAAQS is established under the CAA.

F. Executive Order 13175: Consultation and Coordination With Indian Tribal Governments

Executive Order 13175 (65 FR 67249, November 9, 2000), requires EPA to develop an accountable process to ensure “meaningful and timely input by Tribal officials in the development of regulatory policies that have Tribal implications.” This action does not have Tribal implications as specified in Executive Order 13175. This action does not apply on any Indian reservation land, any other area where EPA or an Indian Tribe has demonstrated that a Tribe has jurisdiction, or non-reservation areas of Indian country. Thus, Executive Order 13175 does not apply to this action.

G. Executive Order 13045: Protection of Children From Environmental Health and Safety Risks

EPA interprets Executive Order 13045 (62 FR 19885, April 23, 1997) as applying to those regulatory actions that concern environmental health or safety risks that EPA has reason to believe may disproportionately affect children, per the definition of “covered regulatory action” in section 2-202 of the Executive Order. This action is not subject to Executive Order 13045 because it does not establish an environmental standard intended to mitigate health or safety risks.

H. Executive Order 13211: Actions That Significantly Affect Energy Supply, Distribution, or Use

This action is not subject to Executive Order 13211 (66 FR 28355, May 22, 2001) because it is not a significant regulatory action under Executive Order 12866.

I. National Technology Transfer and Advancement Act (NTTAA)

This rulemaking does not involve technical standards. Therefore, EPA is not considering the use of any voluntary consensus standards.

J. Executive Order 12898: Federal Actions To Address Environmental Justice in Minority Populations and Low-Income Populations

Executive Order 12898 (Federal Actions To Address Environmental Justice in Minority Populations and Low-Income Populations, 59 FR 7629, February 16, 1994) directs Federal agencies to identify and address “disproportionately high and adverse human health or environmental effects” of their actions on communities with environmental justice (EJ) concerns to the greatest extent practicable and permitted by law. EPA defines EJ as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

EPA did not perform an EJ analysis and did not consider EJ in this action. Due to the nature of the action being taken here, this action is expected to have a neutral to positive impact on the air quality of the affected area. Consideration of EJ is not required as part of this action, and there is no information in the record inconsistent with the stated goal of E.O. 12898 of achieving environmental justice for communities with EJ concerns.

List of Subjects in 40 CFR Part 52

Environmental protection, Air pollution control, Incorporation by reference, Intergovernmental relations, Sulfur dioxide.

Dated: September 18, 2024.
Debra Shore,
Regional Administrator, Region 5.

[FR Doc. 2024-21895 Filed 9-25-24; 8:45 am]

BILLING CODE 6560-50-P